DEPARTMENT OF TRANSPORTATION

Federal Aviation Administration

14 CFR Part 43

Removal of References to Part 123 From 14 CFR Part 43

AGENCY: Federal Aviation Administration, DOT.

ACTION: Final rule; technical amendment.

SUMMARY: In the final rule, Certification and Operation Rules for Certain Large Airplanes, which the FAA published in the Federal Register on October 9, 1980, the FAA revoked part 123, effective January 1, 1983. However, references to part 123 remain in part 43. The purpose of this action is to remove those references. In addition, we are taking this opportunity to make some minor editorial corrections to part 43.

DATES: Effective Dates: Effective on August 4, 2006.

FOR FURTHER INFORMATION CONTACT: Kim Barnette, Aircraft Maintenance Division, Flight Standards Service, Federal Aviation Administration, 800 Independence Avenue, SW., Washington, DC 20591. Telephone: (202-493-4922); facsimile: (202-267-5115); e-mail: kim.a.barnette@faa.gov.

SUPPLEMENTARY INFORMATION: In a 1980 final rule,¹ the FAA revoked part 123, effective January 1, 1983, because of the diminishing number of operators under that part. As an alternative, we allowed those operators to seek certification either under part 121 or part 125. Since the effective date of the revocation was January 1, 1983, we should have removed all references to part 123 from part 43 as of that date. However, we recently learned that part 123 references remain in § 43.11(a), § 43.11(a)(7), § 43.15(a), § 43.15(a)(2), and § 43.16. This action removes those references. In addition, it corrects some editorial inconsistencies. For example, we lowercased the word “Part” in several of the previously referenced sections to make it consistent with other sections.

¹ Certification and Operation Rules for Certain Large Airplanes (45 FR 67214; October 9, 1980).

Technical Amendment

The technical amendment will remove references to part 123 from part 43 and will make minor editorial corrections to part 43.

List of Subjects in 14 CFR Part 43

Aircraft, Aviation safety, Reporting and recordkeeping requirements.

Accordingly, Title 14 of the Code of Federal Regulations (CFR) part 43 is amended as follows:

PART 43—MAINTENANCE, PREVENTIVE MAINTENANCE, REBUILDING, AND ALTERATION

1. The authority citation for part 43 continues to read as follows:

Authority: 49 U.S.C. 106(g), 40113, 44701, 44703, 44705, 44707, 44711, 44713, 44717, 44725.

2. Amend § 43.11 by revising paragraphs (a) introductory text and (a)(7) to read as follows:

§ 43.11 Content, form, and disposition of records for inspections conducted under parts 91 and 125 and §§ 135.411(a)(1) and 135.419 of this chapter.

(a) Maintenance record entries. The person approving or disapproving for return to service an aircraft, airframe, aircraft engine, propeller, appliance, or component part after any inspection performed in accordance with part 91, 125, § 135.411(a)(1), or § 135.419 shall make an entry in the maintenance record of that equipment containing the following information:

* * * * *

(7) If an inspection is conducted under an inspection program provided for in part 91, 125, or § 135.411(a)(1), the entry must identify the inspection program, that part of the inspection program accomplished, and contain a statement that the inspection was performed in accordance with the inspections and procedures for that particular program.

* * * * *

3. Amend § 43.15 by revising paragraphs (a) introductory text and (a)(2) to read as follows:

§ 43.15 Additional performance rules for inspections.

(a) General. Each person performing an inspection required by part 91, 125, or 135 of this chapter, shall—

* * * * *

(2) If the inspection is one provided for in part 125, 135, or § 91.409(e) of this chapter, perform the inspection in accordance with the instructions and procedures set forth in the inspection program for the aircraft being inspected.

* * * * *

4. Amend § 43.16 by revising it to read as follows:

§ 43.16 Airworthiness limitations.

Each person performing an inspection or other maintenance specified in an Airworthiness Limitations section of a manufacturer's maintenance manual or Instructions for Continued Airworthiness shall perform the inspection or other maintenance in accordance with that section, or in accordance with operations specifications approved by the Administrator under part 121 or 135, or an inspection program approved under § 91.409(e).

Issued in Washington, DC, on July 27, 2006.
Tony F. Fazio,
Director, Office of Rulemaking, Aviation Safety.

[FR Doc. E6-12655 Filed 8-3-06; 8:45 am]

BILLING CODE 4910-13-P